DEPARTMENT OF THE INTERIOR

National Park Service

[NPS-NER-DEWA-18193; PPNEDEWAS0/PROIESUC1.380000]

Boundary Adjustment at Delaware Water Gap National Recreation Area

AGENCY: National Park Service, Interior.

ACTION: Notification of Boundary Adjustment.

SUMMARY: The boundary of Delaware Water Gap National Recreation Area is adjusted to include one parcel of land totaling 550.65 acres, more or less. Fee simple interest in the land will be donated to the United States. The property is located in Smithfield Township, Monroe County, Pennsylvania, adjacent to the current boundary of Delaware Water Gap National Recreation Area.

DATES: The effective date of this boundary adjustment is July 31, 2015.

ADDRESSES: The map depicting this boundary adjustment is available for inspection at the following locations: National Park Service, Land Resources Program Center, Northeast Region, 200 Chestnut Street, PA 19106, and National Park Service, Department of the Interior, 1849 C Street NW., Washington, DC 20240.

FOR FURTHER INFORMATION CONTACT: Superintendent John J. Donahue, Delaware Water Gap National Recreation Area, 1978 River Road (Off U.S. 209), Bushkill, PA 18324, telephone (570) 426-2418.

SUPPLEMENTARY INFORMATION: Notice is hereby given that, pursuant to 16 U.S.C. 460o-2(b), the boundary of Delaware Water Gap National Recreation Area is adjusted to include 550.655 acres of land, more or less, comprising one parcel of land (Tax Parcel ID Number 16/1/1/12). This boundary adjustment is depicted on Map No. 620/128405 dated April 2015.

16 U.S.C. 460o-2(b) states that the Secretary of the Interior may make adjustments in the boundary of Delaware Water Gap National Recreation Area by publication of the amended description thereof in the Federal Register: Provided, that the area encompassed by such adjusted boundary shall not exceed the acreage included within the detailed boundary first described in the Federal Register on June 7, 1977 (Vol. 42, No. 109, pp 29071-29103). This boundary adjustment does not exceed the acreage of the detailed boundary so described. The Conservation Fund will donate its fee interest in the land to the United States as part of an agreement to help mitigate the effects of the upgrade and expansion of the existing Susquehanna-Roseland electric transmission line across approximately 4.3 miles of the national recreation area.

Dated: May 6, 2015.
Michael A. Caldwell,
Regional Director, Northeast Region.

[FR Doc. 2015-18801 Filed 7-30-15; 8:45 am]

BILLING CODE 4310-WV-P